DEPARTMENT OF ENERGY

Federal Energy Regulatory Commission

[Docket No. CP05-419-000]

El Paso Natural Gas Company; Notice of Request Under Blanket Authorization

October 6, 2005.

Take notice that on September 30, 2005, El Paso Natural Gas Company (EPNG), P.O. Box 1087, Colorado Springs, Colorado 80944, filed in Docket No. CP05-419-000 a request pursuant to 18 CFR 157.205(b) and 157.211(a)(2) of the Commission's Regulations under the Natural Gas Act for authorization to construct and operate a new delivery point, located in Maricopa County, Arizona to serve Therm-O-Rock West, Inc. (Therm-O-Rock), under the authorization issued in Docket No. CP82-435-000 pursuant to section 7 of the Natural Gas Act, all as more fully described in the request.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Richard Derryberry, Director of Regulatory Affairs, El Paso Natural Gas Company, P.O. Box 1087, Colorado Springs, Colorado 80944, at (719) 520-3782 or Fax (719) 520-4697.

EPNG states that Therm-O-Rock currently owns and operates an industrial minerals processing plant in Maricopa County, Arizona. EPNG avers that Therm-O-Rock utilizes natural gas to fuel furnaces. EPNG indicates that Therm-O-Rock has requested natural gas service directly from EPNG for its processing plant which is currently served by Southwest Gas Corporation.

EPNG requests authorization to construct, own and operate the proposed Willis Road Delivery Point to provide service for Therm-O-Rock. EPNG contends that EPNG's environmental analysis supports the conclusion that the construction and operation of the proposed delivery point would not be a major Federal action significantly affecting the human environment. EPNG estimates the cost of the proposed facilities to be approximately $171,852 which would be reimbursed by Therm-O-Rock. EPNG maintains that the proposal would have no significant effect on EPNG's peak day and annual deliveries, and service to Therm-O-Rock through the new delivery point would be accomplished by use of interruptible transportation capacity without detriment to EPNG's other existing customers.

Any person or the Commission's Staff may, within 45 days after the issuance of the instant notice by the Commission, file pursuant to Rule 214 of the Commission's Procedural Rules (18 CFR 385.214) a motion to intervene or notice of intervention and, pursuant to Section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

Comments, protests and interventions may be filed electronically via the Internet in lieu of paper. See, 18 CFR 385.2001(a)(1)(iii) and the instructions on the Commission's Web site under the “e-filing” link. The Commission strongly encourages electronic filings.

Magalie R. Salas,
Secretary.

[FR Doc. E5-5658 Filed 10-14-05; 8:45 am]

BILLING CODE 6717-01-P